FEDERAL ELECTION COMMISSION

Sunshine Act Meeting

Previously Announced Date & Time: Thursday, November 14, 2002,

Meeting Open to the Public: The following item was added to the agenda: Report of the Audit Division—Nader 2000 Primary Committee, Inc.

Date & Time: Tuesday, November 19, 2002 at 10 a.m.

Place: 999 E Street, NW., Washington, DC.

Status: This meeting will be closed to the public.

Items to be Discussed: Compliance matters pursuant to 2 U.S.C. 437g.

Audits conducted pursuant to 2 U.S.C. 437g, § 438(b), and Title 26, U.S.C.

Matters concerning participation in civil actions or proceedings or arbitration.

Internal personnel rules and procedures or matters affecting a particular employee.

Date & Time: Thursday, November 21, 2002 at 10 a.m.

Place: 999 E Street, NW., Washington, DC (Ninth Floor).

Status: This meeting will be open to the public.

Items to be Discussed: Correction and Approval of Minutes.

Final Rules and Explanation and Justification on Disclaimers, Fraudulent Solicitations, Personal Use of Campaign Funds, and Civil Penalties.

Routine Administrative Matters.

Person To Contact for Information: Mr. Ron Harris, Press Officer, Telephone: (202) 694-1220.

Mary W. Dove,
Secretary of the Commission.

[FR Doc. 02-29101 Filed 11-12-02; 3:13 am]

BILLING CODE 6715-01-M